DEPARTMENT OF THE INTERIOR

Bureau of Land Management

[LLORB06000.L10200000.PI0000.L.X.SS.021H0000; HAG-09-0069]

Notice of Public Meetings for the Steens Mountain Advisory Council

AGENCY: Bureau of Land Management, Department of the Interior.

ACTION: Notice of public meetings.

SUMMARY: In accordance with the Steens Mountain Cooperative Management and Protection Act of 2000, the Federal Land Policy and Management Act, and the Federal Advisory Committee Act of 1972, the U.S. Department of the Interior, Bureau of Land Management, Steens Mountain Advisory Council will meet as indicated below.

DATES AND ADDRESSES: The Steens Mountain Advisory Council will meet at the Bureau of Land Management, Burns District Office, 28910 Highway 20 West, Hines, Oregon, 97738, on February 12 and 13, 2009; April 9 and 10, 2009; and December 3 and 4, 2009. A meeting in Bend, Oregon, at the Comfort Inn and Suites, 62065 SE 27th Street, will be held June 4 and 5, 2009, and a meeting September 3 and 4, 2009, will be held at the Frenchglen School, Frenchglen, Oregon. All meeting sessions will begin at 8 a.m. local time, and will end at approximately 4:30 p.m., local time.

SUPPLEMENTARY INFORMATION: The Steens Mountain Advisory Council was appointed by the Secretary of the Interior on August 14, 2001, pursuant to the Steens Mountain Cooperative Management and Protection Act of 2000 (Pub. L. 106-399) and re-chartered in August 2005 and again in August 2007. The Steens Mountain Advisory Council's purpose is to provide representative counsel and advice to the Bureau of Land Management regarding new and unique approaches to management of the land within the bounds of the Steens Mountain Cooperative Management and Protection Area; cooperative programs and incentives for landscape management that meet human needs, maintain and improve the ecological and economic integrity of the area; and preparation and implementation of a management plan for the Steens Mountain Cooperative Management and Protection Area.

Topics to be discussed by the Steens Mountain Advisory Council at these meetings include the Steens Mountain Comprehensive Recreation Plan; North Steens Ecosystem Restoration Project implementation; Science Strategy; South Steens Water Development Project Environmental Assessment; easements and acquisitions; In-holder Access Environmental Assessment; and categories of interest such as wildlife, special designated areas, partnerships/programs, cultural resources, education/interpretation, volunteer-based information, adaptive management and socioeconomics; and other matters that may reasonably come before the Steens Mountain Advisory Council.

All meetings are open to the public in their entirety. Information to be distributed to the Steens Mountain Advisory Council is requested prior to the start of each Steens Mountain Advisory Council meeting. Public comment is generally scheduled for 11 a.m. to 11:30 a.m., local time, both days of each meeting session. The amount of time scheduled for public presentations and meeting times may be extended when the authorized representative considers it necessary to accommodate all who seek to be heard regarding matters on the agenda.

Under the Federal Advisory Committee Act management regulations (41 CFR 102-3.15(b)), in exceptional circumstances an agency may give less than 15 days notice of committee meeting notices published in the Federal Register. In this case, this notice is being published less than 15 days prior to the meeting due to the urgent need to meet legal requirements for completion of the Steens Mountain Travel Management Plan/Environmental Assessment.

FOR FURTHER INFORMATION CONTACT: Christi Courtemanche, Bureau of Land Management, Burns District Office, 28910 Highway 20 West, Hines, Oregon, 97738 (541) 573-4541 or Christi_Courtemanche@blm.gov.

Dated: January 26, 2009.
Brendan Cain,
District Manager.

[FR Doc. E9-2171 Filed 1-30-09; 8:45 am]

BILLING CODE 4310-33-P